DEPARTMENT OF ENERGY

Federal Energy Regulatory Commission

Combined Notice of Filings

June 1, 2010.

Take notice that the Commission has received the following Natural Gas Pipeline Rate and Refund Report filings:

Docket Numbers: RP10-765-000

Applicants: Panhandle Eastern Pipe Line Company, LP

Description: Panhandle Eastern Pipe Line Company, LP submits tariff filing per 154.203: Baseline Filing to be effective 6/1/2010.

Filed Date: 05/27/2010

Accession Number: 20100527-5060

Comment Date: 5 p.m. Eastern Time on Tuesday, June 8, 2010

Docket Numbers: RP10-766-000

Applicants: Horizon Pipeline Company, L.L.C.

Description: Horizon Pipeline Company, L.L.C. submits tariff filing per 154.203: Baseline Filing to be effective 5/27/2010.

Filed Date: 05/27/2010

Accession Number: 20100527-5089

Comment Date: 5 p.m. Eastern Time on Tuesday, June 8, 2010

Docket Numbers: RP10-767-000

Applicants: CenterPoint Energy Gas Transmission Company

Description: CenterPoint Energy Gas Transmission Company submits Seventh Revised Sheet No. 604 et al. to FERC Gas Tariff, Sixth Revised Volume No. 1.

Filed Date: 05/27/2010

Accession Number: 20100527-0187

Comment Date: 5 p.m. Eastern Time on Tuesday, June 8, 2010

Docket Numbers: RP10-768-000

Applicants: Dominion Transmission, Inc.

Description: Dominion Transmission, Inc submits Second Revised Sheet 61 et al. to FERC Gas Tariff, Second Revised Volume 1 to be effective 7/1/10.

Filed Date: 05/27/2010

Accession Number: 20100527-0154

Comment Date: 5 p.m. Eastern Time on Tuesday, June 8, 2010

Docket Numbers: RP10-769-000

Applicants: Questar Southern Trails Pipeline Company

Description: Questar Southern Trails Pipeline Company submits Fuel reimbursement report and variance adjustment calculation et al. to FERC Gas Tariff, Original Volume 1.

Filed Date: 05/27/2010

Accession Number: 20100527-0153

Comment Date: 5 p.m. Eastern Time on Tuesday, June 8, 2010

Docket Numbers: RP10-770-000

Applicants: Columbia Gulf Transmission Company

Description: Columbia Gulf Transmission Company submits tariff filing per 154.203: Baseline Filing to be effective 5/27/2010.

Filed Date: 05/27/2010

Accession Number: 20100527-5115

Comment Date: 5 p.m. Eastern Time on Tuesday, June 8, 2010

Docket Numbers: RP10-771-000

Applicants: Columbia Gas Transmission, LLC

Description: Columbia Gas Transmission, LLC submits tariff filing per 154.204: NTS-S Conversion to be effective 6/1/2010.

Filed Date: 05/27/2010

Accession Number: 20100527-5123

Comment Date: 5 p.m. Eastern Time on Tuesday, June 8, 2010

Docket Numbers: RP10-772-000

Applicants: Blue Lake Gas Storage Company

Description: Blue Lake Gas Storage Company submits tariff filing per 154.203: Baseline Filing to be effective 5/27/2010.

Filed Date: 05/27/2010

Accession Number: 20100527-5128

Comment Date: 5 p.m. Eastern Time on Tuesday, June 8, 2010

Docket Numbers: RP10-773-000

Applicants: Tuscarora Gas Transmission Company

Description: Tuscarora Gas Transmission Company submits tariff filing per 154.203: Baseline Filing to be effective 5/27/2010.

Filed Date: 05/27/2010

Accession Number: 20100527-5132

Comment Date: 5 p.m. Eastern Time on Tuesday, June 8, 2010

Docket Numbers: RP10-774-000

Applicants: Kinder Morgan Louisiana Pipeline Company

Description: Kinder Morgan Louisiana Pipeline LLC submits First Revised Sheet No. 6 to FERC Gas Tariff, Original Volume No. 1.

Filed Date: 05/27/2010

Accession Number: 20100527-0180

Comment Date: 5 p.m. Eastern Time on Tuesday, June 8, 2010

Docket Numbers: RP10-775-000

Applicants: Maritimes & Northeast Pipeline, L.L.C.

Description: Maritimes & Northeast Pipeline, LLC submits Seventh Revised Sheet No. 1 et al. to FERC Gas Tariff, First Revised Volume No. 1.

Filed Date: 05/27/2010

Accession Number: 20100527-0185

Comment Date: 5 p.m. Eastern Time on Tuesday, June 8, 2010

Docket Numbers: RP10-776-000

Applicants: Transcontinental Gas Pipe Line Company

Description: Transcontinental Gas Pipe Line Co LLC submits Original Sheet No. 59 et al. to FERC Gas Tariff, Fourth Revised Sheet No. 1.

Filed Date: 05/27/2010

Accession Number: 20100527-0186

Comment Date: 5 p.m. Eastern Time on Tuesday, June 8, 2010

Docket Numbers: RP10-777-000

Applicants: Gulf Crossing Pipeline Company LLC

Description: Gulf Crossing Pipeline Company LLC submits tariff filing per 154.203: RP10-666-001 Compliance Filing to be effective 5/7/2010.

Filed Date: 05/28/2010

Accession Number: 20100528-5047

Comment Date: 5 p.m. Eastern Time on Wednesday, June 9, 2010

Docket Numbers: RP10-778-000

Applicants: Stingray Pipeline Company, L.L.C.

Description: Stingray Pipeline Company, L.L.C. submits tariff filing per 154.203: Baseline Filing to be effective 6/30/2010.

Filed Date: 05/28/2010

Accession Number: 20100528-5059

Comment Date: 5 p.m. Eastern Time on Wednesday, June 9, 2010

Docket Numbers: RP10-779-000

Applicants: Dominion Transmission, Inc.

Description: Dominion Transmission, Inc. submits tariff filing per 154.203: DTI 5-28-10 Baseline Filing Volume No. 1 to be effective 5/28/2010.

Filed Date: 05/28/2010

Accession Number: 20100528-5093

Comment Date: 5 p.m. Eastern Time on Wednesday, June 9, 2010

Docket Numbers: RP10-780-000

Applicants: Northern Natural Gas Company

Description: Northern Natural Gas Company submits Eighth Revised Sheet 67 to FERC Gas Tariff, Fifth Revised Volume 1 to be effective 6/1/10.

Filed Date: 05/28/2010

Accession Number: 20100528-0207

Comment Date: 5 p.m. Eastern Time on Wednesday, June 9, 2010

Docket Numbers: RP10-781-000

Applicants: Algonquin Gas Transmission, LLC

Description: Algonquin Gas Transmission, LLC submits tariff filing per 154.204: NJR Energy Services negotiated rate for contract 781744 to be effective 6/1/2010.

Filed Date: 05/28/2010

Accession Number: 20100528-5111

Comment Date: 5 p.m. Eastern Time on Wednesday, June 9, 2010

Docket Numbers: RP10-782-000

Applicants: Columbia Gas Transmission, LLC

Description: Columbia Gas Transmission, LLC submits tariff filing per 154.203: Offsystem Pipeline Capacity to be effective 5/1/2010.

Filed Date: 05/28/2010

Accession Number: 20100528-5160

Comment Date: 5 p.m. Eastern Time on Wednesday, June 9, 2010

Docket Numbers: RP10-783-000

Applicants: Southeast Supply Header, LLC

Description: Southeast Supply Header, LLC submits First Revised Sheet No 1 et al. to its FERC Gas Tariff, Original Volume 1, to be effective 6/28/10.

Filed Date: 05/28/2010

Accession Number: 20100528-0244

Comment Date: 5 p.m. Eastern Time on Wednesday, June 9, 2010

Docket Numbers: RP10-785-000

Applicants: Gulf South Pipeline Company, LP

Description: Gulf South Pipeline Company, LP submits a capacity release agreement containing negotiated rate provisions with Texla Energy Management, Inc.

Filed Date: 05/28/2010

Accession Number: 20100528-0241

Comment Date: 5 p.m. Eastern Time on Wednesday, June 9, 2010

Docket Numbers: RP10-786-000

Applicants: Texas Gas Transmission, LLC

Description: Texas Gas Transmission LLC submits a Negotiated Rate Letter Agreement with Tennessee Valley Authority.

Filed Date: 05/28/2010

Accession Number: 20100528-0242

Comment Date: 5 p.m. Eastern Time on Wednesday, June 9, 2010

Docket Numbers: RP10-787-000

Applicants: Natural Gas Pipeline Company of America LLC

Description: Natural Gas Pipeline Company of American, LLC submits Fourth Revised Sheet 539 et al. to FERC Gas Tariff, Seventh Revised Volume 1, to be effective 7/1/10.

Filed Date: 05/28/2010

Accession Number: 20100528-0239

Comment Date: 5 p.m. Eastern Time on Wednesday, June 9, 2010

Docket Numbers: RP10-788-000

Applicants: Kinder Morgan Interstate Gas Transmission LLC

Description: Kinder Morgan Interstate Gas Transmission LLC submits Twenty-seventh Revised Sheet No 4G.01 to its FERC Gas Tariff, Fourth Revised Volume 1A, to be effective 6/1/10.

Filed Date: 05/28/2010

Accession Number: 20100528-0240

Comment Date: 5 p.m. Eastern Time on Wednesday, June 9, 2010

Docket Numbers: RP10-789-000

Applicants: Rockies Express Pipeline LLC

Description: Rockies Express Pipeline, LLC submits Ninth Revised Sheet 8B et al. to FERC Gas Tariff, Second Revised Volume 1, to be effective 6/1/10.

Filed Date: 05/28/2010

Accession Number: 20100528-0231

Comment Date: 5 p.m. Eastern Time on Wednesday, June 9, 2010

Docket Numbers: RP10-791-000

Applicants: Rockies Express Pipeline LLC

Description: Rockies Express Pipeline LLC—Penalty Charge Reconciliation Filing.

Filed Date: 05/28/2010

Accession Number: 20100528-5193

Comment Date: 5 p.m. Eastern Time on Wednesday, June 9, 2010

Docket Numbers: RP10-793-000

Applicants: Colorado Interstate Gas Company

Description: Colorado Interstate Gas Company Lost, Unaccounted-for and Other Fuel; Gas Reimbursement Percentage Filing.

Filed Date: 05/28/2010

Accession Number: 20100528-5229

Comment Date: 5 p.m. Eastern Time on Wednesday, June 9, 2010

Docket Numbers: RP10-796-000

Applicants: Southern Star Central Gas Pipeline, Inc.

Description: Southern Star Central Gas Pipeline, Inc. submits tariff filing per 154.203: Baseline Filing to be effective 6/1/2010.

Filed Date: 06/01/2010

Accession Number: 20100601-5048

Comment Date: 5 p.m. Eastern Time on Monday, June 14, 2010

Docket Numbers: RP10-797-000

Applicants: North Baja Pipeline, LLC

Description: North Baja Pipeline, LLC submits tariff filing per 154.203: Compliance 6/1/10, to be effective 5/18/2010.

Filed Date: 06/01/2010

Accession Number: 20100601-5052

Comment Date: 5 p.m. Eastern Time on Monday, June 14, 2010

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-13914 Filed 6-9-10; 8:45 am]

BILLING CODE 6717-01-P